DEPARTMENT OF LABOR

Employment and Training Administration

Agency Information Collection Activities; Comment Request; Unemployment Insurance (UI) Data Validation (DV) Program

ACTION: Notice.

SUMMARY: The Department of Labor's (DOL) Employment and Training Administration (ETA) is soliciting comments concerning a proposed extension for the authority to conduct the information collection request (ICR) titled, “Unemployment Insurance (UI) Data Validation (DV) Program.” This comment request is part of continuing Departmental efforts to reduce paperwork and respondent burden in accordance with the Paperwork Reduction Act of 1995 (PRA).

DATES: Consideration will be given to all written comments received by March 17, 2025.

ADDRESSES: A copy of this ICR with applicable supporting documentation, including a description of the likely respondents, proposed frequency of response, and estimated total burden, may be obtained free by contacting India Oliver by telephone at 202-693-3020 (this is not a toll-free number), or by email at OUI-PRA@dol.gov. For persons with a hearing or speech disability who need assistance to use the telephone system, please dial 711 to access telecommunications relay services.

Submit written comments about, or requests for a copy of, this ICR by mail or courier to the U.S. Department of Labor, Employment and Training Administration, Office of Unemployment Insurance, Room S-4519, 200 Constitution Avenue NW, Washington, DC 20210; by email: OUI-PRA@dol.gov; or by fax 202-693-3975.

FOR FURTHER INFORMATION CONTACT: India Oliver by telephone at 202-693-3020 (this is not a toll-free number) or by email at OUI-PRA@dol.gov.

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

Section 303(a)(6) of the Social Security Act specifies that the Secretary of Labor will not certify State UI programs to receive administrative grants unless the State's law includes provisions for “making of such reports . . . as the Secretary of Labor may from time to time require, and compliance with such provisions as the Secretary may from time to time find necessary to assure the correctness and verification of such reports.” DOL considers DV to be one of those “provisions . . . necessary to assure the correctness and verification” of the reports submitted by states that authorizes this information collection.

The Government Performance and Results Act of 1993 (GPRA) requires Federal agencies to develop annual and strategic performance plans that establish performance goals, have concrete indicators of the extent that goals are achieved, and set performance targets. Each year, the agency is to issue a report that “evaluate[s] the performance plan for the current fiscal year relative to the performance achieved toward the performance goals in the fiscal year covered by the report.” DOL emphasizes the importance of complete and accurate information for program monitoring and improving program performance “. . . as a framework for agencies to communicate progress in achieving their missions.” (OMB Circular A-11, Section 15.5).

The UI DV program employs a refined and automated approach to review 363 elements reported on 15 UI Benefits reports and 1 UI Tax report. DOL uses many of these elements for key performance measures and workload analysis. The validation process assesses the accuracy of the counts of transactions. Guided by a detailed handbook, the state UI agency first constructs extract files containing all pertinent individual transactions for the desired report period to be validated. These transactions are grouped into 16 UI Benefits and 5 UI Tax populations. Each transaction record contains the necessary characteristics or dimensions that enable it to be summed into an independent recount of what the state has already reported. DOL provides state agencies with software that edits the extract file (to identify and remove duplicate transactions and improperly built records, for example), then aggregates the transactions to produce an independent reconstruction or “validation count” of the reported figure. The reported count is considered valid by this “quantity” validation test if it is within plus or minus two percent of the validation count (plus or minus one percent for a GPRA-related element).

The software also draws samples of most transaction types from the extract files. Guided by a state-specific handbook, the validators review these sample records against documentation in the state's management information system to determine whether the transactions in the extract file are supported by system documentation. This qualitative check determines whether the state management information system accurately reflects data elements of UI transactions. The UI Benefits extract files are considered to pass this “quality” review if random samples indicate that no more than five percent of the records contain errors. The UI Tax extract files are subjected to different “quality” tests. An extract file of a population is considered valid only if the reported count differs from the reconstructed (validation) count by no more than the appropriate criterion of plus or minus two percent or plus or minus one percent and the samples of transactions have satisfied all quality tests.

For Federal fiscal years 2011 and beyond, all states are required to conduct a complete validation every three years. In the following three cases, the three-year rule does not apply and a re-validation must occur within one year: (1) groups of reported counts that are summed for purposes of making a Pass/Fail determination and do not pass validation by being within plus or minus two percent of the reconstructed counts or the extract file does not pass all quality tests; (2) the validation applies to the two UI Benefits populations and one UI Tax population used for GPRA measures; and (3) reports are produced by new reporting software following a state's information technology modernization effort. Every year, states must also certify that Module 3, the state specific validation manual of the UI Benefits and UI Tax information systems, are up to date. Section 303(a)(6) of the Social Security Act authorizes this information collection.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should OMB Control No. 1205-0431.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the Agency, including whether the information will have practical utility;

• Evaluate the accuracy of the Agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL-ETA.

Type of Review: Extension without changes.

Title of Collection: Unemployment Insurance (UI) Data Validation (DV).

Form: ETA Handbooks 361.

OMB Control Number: 1205-0431.

Affected Public: State Workforce Agencies.

Estimated Number of Respondents: 53.

Frequency: Varies.

Total Estimated Annual Responses: 53.

Estimated Average Time per Response: Varies.

Estimated Total Annual Burden Hours: 23,644 hours.

Total Estimated Annual Other Cost Burden: $0.

Authority: 44 U.S.C. 3506(c)(2)(A).

José Javier Rodríguez,
Assistant Secretary for Employment and Training, Labor.

[FR Doc. 2025-00807 Filed 1-14-25; 8:45 am]

BILLING CODE 4510-FW-P